DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 16, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Rural Innovation Stronger Economy Grant Program (RISE).

OMB Control Number: 0570-0075.

Summary of Collection: Section 6424 of the Agriculture Improvement Act of 2018 (Farm Bill), Public Law 115-334, amended subtitle D of the Consolidated Farm and Rural Development Act (the “Act,” 7 U.S.C. 2009cc) by adding the “Rural Innovation Stronger Economy Grant Program” (“RISE”) to be established by the Secretary of the U.S. Department of Agriculture (USDA).

The purpose of the RISE program is to create and enhance jobs and support industry clusters in low-income rural areas. This is achieved through grants awarded to a rural jobs accelerator partnerships consisting of non-profit entities, Tribal entities, institutions of higher education and public bodies with expertise in delivering economic and job training programs. RISE grant funds can be used to build or support a business incubator facility, provide worker training to assist in either the creation of new jobs, upskilling the present work force to a high-wage job, or developing a base of skilled workers that will enhance the opportunities to enter a high-wage job within existing industry segments in the region.

Need and Use of the Information: The information provided will be used to determine applicant and project eligibility and to ensure that projects meet program goals and that funds will be used for authorized purposes. Additionally, Partnerships that receive RISE grant funding are required to provide financial and program reports to ensure that the project is progressing, and that funds continue to be used for authorized purposes.

Description of Respondents: State, Local, and Tribal Government.

Number of Respondents: 60.

Frequency of Responses: Reporting: Annually.

Total Burden Hours: 1,839.

Levi S. Harrell,
Departmental Information Collection Clearance Officer.

[FR Doc. 2025-10915 Filed 6-13-25; 8:45 am]

BILLING CODE 3410-XY-P